ENVIRONMENTAL PROTECTION AGENCY

40 CFR Part 52

[CA 307-0466a; FRL-7812-2]

Revisions to the California State Implementation Plan, Antelope Valley Air Quality Management District

AGENCY: Environmental Protection Agency (EPA).

ACTION: Direct final rule.

SUMMARY: EPA is taking direct final action to approve revisions to the Antelope Valley Air Quality Management District portion of the California State Implementation Plan (SIP). Under authority of the Clean Air Act as amended in 1990 (CAA or the Act), we are approving the rescission from the California SIP of local rules that address Metal Container, Closure and Coil Coating Operations, Magnet Wire Coating Operations, Volatile Organic Compound Emissions from Resin Manufacturing, Surfactant Manufacturing, and the accompanying negative declarations.

DATES: This rule is effective on November 22, 2004 without further notice, unless EPA receives adverse comments by October 21, 2004. If we receive such comments, we will publish a timely withdrawal in the Federal Register to notify the public that this direct final rule will not take effect.

ADDRESSES: Send comments to Andy Steckel, Rulemaking Office Chief (AIR-4), U.S. Environmental Protection Agency, Region IX, 75 Hawthorne Street, San Francisco, CA 94105-3901 or e-mail to steckel.andrew@epa.gov, or submit comments at http://www.regulations.gov.

You can inspect copies of the submitted SIP revisions, EPA's technical support documents (TSDs), and public comments at our Region IX office during normal business hours by appointment. You may also see copies of the submitted SIP revisions by appointment at the following locations:

Air and Radiation Docket and Information Center, U.S. Environmental Protection Agency, Room B-102, 1301 Constitution Avenue, NW., (Mail Code 6102T), Washington, DC 20460.

California Air Resources Board, Stationary Source Division, Rule Evaluation Section, 1001 “I” Street, Sacramento, CA 95814.

Antelope Valley Air Quality Management District, 43301 Division Street, Suite 206, Lancaster, CA 93539-4409

A copy of the rules may also be available via the Internet at http://www.arb.ca.gov/drdb/drdbltxt.htm. Please be advised that this is not an EPA Web site and may not contain the same version of the rule that was submitted to EPA.

FOR FURTHER INFORMATION CONTACT: Julie A. Rose, EPA Region IX, (415) 947-4126, rose.julie@epa.gov.

SUPPLEMENTARY INFORMATION: Throughout this document, “we,” “us” and “our” refer to EPA.

Table of Contents

I. The State's Submittal

A. What rule rescissions did the State submit?

B. Are there other versions of these rules?

C. What is the purpose of the submitted rule rescissions?

II. EPA's Evaluation and Action.

A. How is EPA evaluating the rule rescissions?

B. Do the rule rescissions meet the evaluation criteria?

C. Public comment and final action.

III. Statutory and Executive Order Reviews

I. The State's Submittal

A. What Rule Rescissions Did the State Submit?

Table 1 lists the rule rescissions and negative declarations we are approving with the dates that they were adopted by the Antelope Valley Air Quality Management District (AVAQMD) and submitted by the California Air Resources Board (CARB).

Table 1.—Submitted Rule Rescissions
Local agency | Rule No. | Rule title | Adopted | Submitted
AVAQMD | 1125 | Metal Container, Closure and Coil Coating | 02/17/04 | 06/03/04
AVAQMD | 1126 | Magnet Wire Coating Operations | 02/17/04 | 06/03/04
AVAQMD | 1141 | Control of Volatile Organic Compound Emissions from Resin Manufacturing | 03/16/04 | 07/19/04
AVAQMD | 1141.2 | Surfactant Manufacturing | 03/16/04 | 07/19/04

These rule submittals were found to meet the completeness criteria in 40 CFR part 51, Appendix V, which must be met before formal EPA review on June 30, 2004 and August 10, 2004, respectively.

B. Are There Other Versions of These Rules?

There are no previous rescissions or negative declarations for Rules 1125, 1126, 1141, and 1141.2 in the SIP.

C. What Is the Purpose of the Submitted Rule Rescissions?

Section 110(a) of the CAA requires states to submit regulations that control volatile organic compounds, oxides of nitrogen, particulate matter, and other air pollutants which harm human health and the environment. These rules were originally developed as part of the South Coast Air Quality Management District's (SCAQMD) program to control volatile organic compounds (VOC). The SCAQMD rules applied to the portion of Los Angeles County located in the Mojave Desert Air Basin, known as the Antelope Valley. On July 1, 1997 the AVAQMD was formed, pursuant to statute and assumed the duties and powers of the SCAQMD in the Antelope Valley. The AVAQMD remains subject to the RACT requirements. The AVAQMD has rescinded Rules 1125, 1126, 1141, and 1141.2 and submitted negative declarations to certify that there are no sources regulated by these rules within the jurisdiction of the AVAQMD. Therefore, the rules are being rescinded and negative declarations were adopted to fulfil the requirements of section 182(b)(2) of the Act. The TSD has more information about these rules.

II. EPA's Evaluation and Action

A. How Is EPA Evaluating the Rule Rescissions?

EPA has evaluated all the appropriate background and submittal documentation and has determined that the rescission of Rules 1125, 1126, 1141, and 1141.2 is approvable. The AVAQMD has certified with Negative Declarations that the sources regulated by these rules are not present in the AVAQMD. Further, the AVAQMD also stated that they do not anticipate these types of sources in the future.

The rule rescissions are consistent with the CAA, EPA regulations and EPA policy.

B. Do the Rule Rescissions Meet the Evaluation Criteria?

We believe these rule rescissions and negative declarations are consistent with the relevant policy and guidance. The TSD has more information on our evaluation.

C. Public Comment and Final Action

As authorized in section 110(k)(3) of the Act, EPA is fully approving the submitted rules because we believe they fulfill all relevant requirements. We do not think anyone will object to this approval, so we are finalizing it without proposing it in advance. However, in the Proposed Rules section of this Federal Register, we are simultaneously proposing approval of the same submitted rules. If we receive adverse comments by October 21, 2004, we will publish a timely withdrawal in the Federal Register to notify the public that the direct final approval will not take effect and we will address the comments in a subsequent final action based on the proposal. If we do not receive timely adverse comments, the direct final approval will be effective without further notice on November 22, 2004. This will incorporate these rule rescissions into the Federally enforceable SIP.

III. Statutory and Executive Order Reviews

Under Executive Order 12866 (58 FR 51735, October 4, 1993), this action is not a “significant regulatory action” and therefore is not subject to review by the Office of Management and Budget. For this reason, this action is also not subject to Executive Order 13211, “Actions Concerning Regulations That Significantly Affect Energy Supply, Distribution, or Use” (66 FR 28355, May 22, 2001). This action merely approves state law as meeting Federal requirements and imposes no additional requirements beyond those imposed by state law. Accordingly, the Administrator certifies that this rule will not have a significant economic impact on a substantial number of small entities under the Regulatory Flexibility Act (5 U.S.C. 601 et seq.). Because this rule approves pre-existing requirements under state law and does not impose any additional enforceable duty beyond that required by state law, it does not contain any unfunded mandate or significantly or uniquely affect small governments, as described in the Unfunded Mandates Reform Act of 1995 (Pub. L. 104-4).

This rule also does not have tribal implications because it will not have a substantial direct effect on one or more Indian tribes, on the relationship between the Federal Government and Indian tribes, or on the distribution of power and responsibilities between the Federal Government and Indian tribes, as specified by Executive Order 13175 (65 FR 67249, November 9, 2000). This action also does not have Federalism implications because it does not have substantial direct effects on the States, on the relationship between the national government and the States, or on the distribution of power and responsibilities among the various levels of government, as specified in Executive Order 13132 (64 FR 43255, August 10, 1999). This action merely approves a state rule implementing a Federal standard, and does not alter the relationship or the distribution of power and responsibilities established in the Clean Air Act. This rule also is not subject to Executive Order 13045 “Protection of Children from Environmental Health Risks and Safety Risks” (62 FR 19885, April 23, 1997), because it is not economically significant.

In reviewing SIP submissions, EPA's role is to approve state choices, provided that they meet the criteria of the Clean Air Act. In this context, in the absence of a prior existing requirement for the State to use voluntary consensus standards (VCS), EPA has no authority to disapprove a SIP submission for failure to use VCS. It would thus be inconsistent with applicable law for EPA, when it reviews a SIP submission, to use VCS in place of a SIP submission that otherwise satisfies the provisions of the Clean Air Act. Thus, the requirements of section 12(d) of the National Technology Transfer and Advancement Act of 1995 (15 U.S.C. 272 note) do not apply. This rule does not impose an information collection burden under the provisions of the Paperwork Reduction Act of 1995 (44 U.S.C. 3501 et seq.).

The Congressional Review Act, 5 U.S.C. 801 et seq., as added by the Small Business Regulatory Enforcement Fairness Act of 1996, generally provides that before a rule may take effect, the agency promulgating the rule must submit a rule report, which includes a copy of the rule, to each House of the Congress and to the Comptroller General of the United States. EPA will submit a report containing this rule and other required information to the U.S. Senate, the U.S. House of Representatives, and the Comptroller General of the United States prior to publication of the rule in the Federal Register. A major rule cannot take effect until 60 days after it is published in the Federal Register. This action is not a “major rule” as defined by 5 U.S.C. 804(2).

Under section 307(b)(1) of the Clean Air Act, petitions for judicial review of this action must be filed in the United States Court of Appeals for the appropriate circuit by November 22, 2004. Filing a petition for reconsideration by the Administrator of this final rule does not affect the finality of this rule for the purposes of judicial review nor does it extend the time within which a petition for judicial review may be filed, and shall not postpone the effectiveness of such rule or action. This action may not be challenged later in proceedings to enforce its requirements. (See section 307(b)(2).)

List of Subjects in 40 CFR Part 52

Environmental protection, Air pollution control, Incorporation by reference, Intergovernmental relations, Ozone, Reporting and recordkeeping requirements, Volatile organic compounds.

Dated: August 26, 2004.
Wayne Nastri,
Regional Administrator, Region IX.

Part 52, chapter I, title 40 of the Code of Federal Regulations is amended as follows:

PART 52—[AMENDED]

1. The authority citation for Part 52 continues to read as follows:

Authority: 42 U.S.C. 7401 et seq.

Subpart F—California

2. Section 52.220 is amended by adding paragraphs (c)(156)(vii)(B), (189)(i)(A)(8), and (215)(i)(A)(7) to read as follows:

§ 52.220 Identification of plan.

* * * * *

(c) * * *

(156) * * *

(vii) * * *

(B) Previously approved on January 15, 1987 in paragraph (c)(156)(vii)(A) of this section and now deleted without replacement for implementation in the Antelope Valley Air Quality Management District Rule 1141.2.

* * * * *

(189) * * *

(i) * * *

(A) * * *

(8) Previously approved on December 20,1993 in paragraph (c)(189)(i)(A)(3) of this section and now deleted without replacement for implementation in the Antelope Valley Air Quality Management District Rule 1141.

* * * * *

(215) * * *

(i) * * *

(A) * * *

(7) Previously approved on June 13, 1995 in paragraph (c)(215)(i)(A)(1) of this section and now deleted without replacement for implementation in the Antelope Valley Air Quality Management District Rules 1125 and 1126.

* * * * *

3. Section 52.222 is amended by adding paragraphs (a)(6)(v) and (a)(6)(vi) to read as follows:

§ 52.222 Negative declarations.

(a) * * *

(6) * * *

(v) Metal Container, Closure and Coil Coating Operations and Magnet Wire Coating Operations submitted on June 3, 2004 and adopted on February 17, 2004.

(vi) Control of Volatile Compound Emissions from Resin Manufacturing and Surfactant Manufacturing submitted on July 19, 2004 and adopted on March 16, 2004.

* * * * *

[FR Doc. 04-21179 Filed 9-20-04; 8:45 am]

BILLING CODE 6560-50-P